DEPARTMENT OF JUSTICE

Antitrust Division

Notice Pursuant to the National Cooperative Research and Production Act of 1993—CHEDE-8

Notice is hereby given that, on December 4, 2019, pursuant to Section 6(a) of the National Cooperative Research and Production Act of 1993, 15 U.S.C. 4301 et seq. (“the Act”), CHEDE-8 (“CHEDE-8”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Cummins, Columbus, IN; Eaton, Marshall, MI; Garret Advancing Motion, Torrance, CA; Guangxi Yuchai Machinery, Guangxi, PEOPLE'S REPUBLIC OF CHINA; Hyundai Motor Group, Gyeonggi-do, REPUBLIC OF KOREA; Isuzu, Tokyo, JAPAN; Lubrizol Corporation, Wickliffe, OH; Superturbo Technologies, Loveland, CO; Volvo Powertrain North America, Hagerstown, MD; and Weichai Power Co. Ltd., Weifang, PEOPLE'S REPUBLIC OF CHINA.

The general area of CHEDE-8's planned activity is to develop new and novel technologies that provide clean and efficient engine systems; to research diesel powertrain systems for the heavy duty segment that can achieve the newly proposed California Air Resources Board (CARB) Low NOX standard of 0.02 g/bhp-hr with 2027 Greenhouse Gas (GHG) emissions; to demonstrate a clean diesel powertrain system capable of meeting the potential Euro 7 NOX standard and 2030 CO2 limits for the light duty segment; and to focus on advanced combustion and engine design concepts that have the potential to disrupt diesel engines in the future.

Suzanne Morris,
Chief, Premerger and Division Statistics Unit, Antitrust Division.

[FR Doc. 2019-28144 Filed 12-27-19; 8:45 am]

BILLING CODE 4410-11-P